DEPARTMENT OF THE TREASURY

Submission for OMB Review; Comment Request

November 2, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 9, 2005 to be assured of consideration.

Alcohol and Tobacco Tax and Trade Bureau (TTB)

OMB Number: 1513-0002.

Type of Review: Extension.

Title: Personnel Questionnaire Alcohol and Tobacco Products.

Form: TTB form F 5000.9.

Description: The information listed on TTB F 5000.9, Personnel Questionnaire, enables TTB to determine whether or not an applicant for an alcohol or tobacco permit meets the minimum qualifications. The form identifies the individual, residence, business background, financial sources for the business and criminal record. If the applicant is found not to be qualified the permit may be denied.

Respondents: Business or other for-profit.

Estimated Total Burden Hours: 10,000 hours.

OMB Number: 1513-0020.

Type of Review: Extension.

Title: Application for Certification/Exemption of Label/Bottle approval under the Federal Alcohol Administration.

Form: TTB form F 5100.31.

Description: The Federal Alcohol Administration Act regulates the labeling of alcohol beverages and designates the Treasury Department to oversee compliance with regulations. This form is completed by the regulated industry and submitted to Treasury as an application to label their products. Treasury oversees label applications to prevent consumer deception and to deter falsification of unfair advertising practices on alcohol beverages.

Respondents: Business or other for-profit.

Estimated Total Burden Hours: 41,238 hours.

OMB Number: 1513-0035.

Type of Review: Extension.

Title: Inventory-Export Warehouse Proprietor.

Form: TTB form F 5220.3.

Description: TTB F 5220.3 is used by export warehouse proprietors to record inventories that are required by law and regulations.

Respondents: Business or other for-profit.

Estimated Total Burden Hours: 50 hours.

OMB Number: 1513-0026.

Type of Review: Extension.

Title: Claim for Drawback of Tax on Tobacco Products, Cigarette Papers and Cigarette Tubes.

Form: TTB form F 5620.7.

Description: TTB F 5620.7 documents taxpaid tobacco products, cigarette papers and cigarette tubes that were exported to a foreign country, Puerto Rico, or Virgin Islands. This form is used by taxpayers to claim drawback for tax paid on exported products.

Respondents: Business or other for-profit.

Estimated Total Burden Hours: 144 hours.

Clearance Officer: Frank Foote, (202) 927-9347, Alcohol and Tobacco Tax and Trade Bureau, Room 200 East, 1310 G Street, NW., Washington, DC 20005.

OMB Reviewer: Alexander T. Hunt, (202) 395-7316, Office of Management and Budget, Room 10235, New Executive Office Building, Washington, DC 20503.

Michael A. Robinson,
Treasury PRA Clearance Officer.

[FR Doc. 05-22338 Filed 11-8-05; 8:45 am]

BILLING CODE 4810-31-P